DEPARTMENT OF ENERGY

Federal Energy Regulatory Commission

Combined Notice of Filings

Take notice that the Commission has received the following Natural Gas Pipline Rate and Refund Report filings:

Filings Instituting Proceedings

Docket Number: CP16-102-000.

Applicants: Vector Pipeline L.P.

Description: Vector Pipeline L.P. Abbreviated Application to Abandon Firm Capacity by Lease.

Filed Date: 3/11/2016.

Accession Number: 20160311-5163.

Comments Due: 5 p.m. ET 4/11/16.

Docket Number: PR15-26-001.

Applicants: Enterprise Texas Pipeline LLC.

Description: Tariff filing per 284.123(b), (e), (g): Rate Petition Amendment to be effective 4/1/2016; Filing Type: 1270.

Filed Date: 3/29/2016.

Accession Number: 201603295155.

Comments Due: 5 p.m. ET 4/19/16.

284.123(g) Protests Due: 5 p.m. ET 5/31/16.

Docket Number: PR16-33-000.

Applicants: Salt Plains Storage, LLC.

Description: Tariff filing per 284.123(e) + (g): Filing to Revise SOC to be effective 4/1/2016; Filing Type: 1280.

Filed Date: 3/28/16.

Accession Number: 201603285084.

Comments Due: 5 p.m. ET 4/18/16.

284.123(g) Protests Due: 5 p.m. ET 5/27/16.

Docket Number: PR16-34-000.

Applicants: Enstor Katy Storage and Transportation, L.P.

Description: Tariff filing per 284.123(e)/.224: Revised Statement of Operating Conditions to be effective 4/1/2016; Filing Type: 770.

Filed Date: 3/28/16.

Accession Number: 201603285135.

Comments/Protests Due: 5 p.m. ET 4/18/16.

Docket Number: PR16-35-000.

Applicants: Enstor Grama Ridge Storage and Transportation, L.L.C.

Description: Tariff filing per 284.123(e)/.224: Revised Statement of Operating Conditions to be effective 4/1/2016; Filing Type: 770.

Filed Date: 3/28/16.

Accession Number: 201603285136.

Comments/Protests Due: 5 p.m. ET 4/18/16.

Docket Number: PR16-36-000.

Applicants: Public Service Company of Colorado.

Description: Tariff filing per 284.123(b)(1)/.: 20160328_PSCo SOR GRSA PSIA to be effective 3/1/2016; Filing Type: 980.

Filed Date: 3/28/16.

Accession Number: 201603285188.

Comments/Protests Due: 5 p.m. ET 4/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2016.
Nathaniel J. Davis, Sr.,
Deputy Secretary.

[FR Doc. 2016-08069 Filed 4-7-16; 8:45 am]

BILLING CODE 6717-01-P